NUCLEAR REGULATORY COMMISSION

Technical Specification Improvement to Remove the Main Steam and Main Feedwater Valve Isolation Time From Technical Specifications Using the Consolidated Line Item Improvement Process

AGENCY: Nuclear Regulatory Commission.

ACTION: Notice of Availability.

SUMMARY: Notice is hereby given that the staff of the Nuclear Regulatory Commission (NRC) has prepared a model Application related to changes to the Standard Technical Specifications (STS), Section 3.7.2, “Main Steam Isolation Valves (MSIVs)” and Section 3.7.3 “Main Feedwater Isolation Valves (MFIVs), Main Feedwater Regulation Valves (MFRVs), and [associated bypass valves].” The changes remove the specific isolation time for the isolation valves from the associated STS Surveillance Requirements (SRs). The bracketed isolation time in the STS SRs is replaced with the requirement to verify the valve isolation time is within limits. The specific isolation time required to meet the STS surveillances would be located outside of the technical specifications in a document subject to control by the 10 CFR 50.59 process.

The NRC staff has also prepared a model safety evaluation (SE) and no significant hazards consideration (NSHC) determination relating to this matter. The purpose of these models is to permit the NRC to efficiently process amendments that propose to adopt the associated changes into plant-specific technical specifications (TS). Licensees of nuclear power reactors to which the models apply may request amendments confirming the applicability of the SE and NSHC determination to their reactors.

DATES: The NRC staff issued a Federal Register Notice (71 FR 193, October 5, 2006) that provided a model SE and a model NSHC determination relating to the removal of the specific isolation time for the isolation valves from the associated STS SRs. The NRC staff hereby announces that the model SE and NSHC determination may be referenced in plant-specific applications to adopt the changes. The staff has posted a model application on the NRC Web site to assist licensees in using the consolidated line item improvement process (CLIIP) to revise the Standard Technical Specifications (STS), Section 3.7.2, “Main Steam Isolation Valves (MSIVs)” and Section 3.7.3 “Main Feedwater Isolation Valves (MFIVs), Main Feedwater Regulation Valves (MFRVs), and [associated bypass valves].” The NRC staff can most efficiently consider applications based upon the model application if the application is submitted within one year of this Federal Register Notice.

FOR FURTHER INFORMATION CONTACT: Peter C. Hearn, Mail Stop: O12H2, Division of Inspection and Regional Support, Office of Nuclear Reactor Regulation, U.S. Nuclear Regulatory Commission, Washington, DC 20555-0001, telephone 301-415-1189.

SUPPLEMENTARY INFORMATION: Regulatory Issue Summary 2000-06, “Consolidated Line Item Improvement Process for Adopting Standard Technical Specification Changes for Power Reactors,” was issued on March 20, 2000. The CLIIP includes an opportunity for the public to comment on proposed changes to operating licenses, including the technical specifications (TS), after a preliminary assessment by the NRC staff and a finding that the change will likely be offered for adoption by licensees. The CLIIP directs the NRC staff to evaluate any comments received for a proposed generic change to operating licenses and to either reconsider the change or issue the announcement of availability for the change proposed for adoption by licensees. Those licensees opting to apply for the subject change to operating licenses are responsible for reviewing the NRC staff's evaluation, referencing the applicable technical justifications, and providing any necessary plant-specific information. Each amendment application made in response to the notice of availability will be processed and noticed in accordance with applicable rules and NRC procedures. This notice involves removal of the specific isolation time for the isolation valves from the associated STS SRs.

Applicability: This proposed change to the standard technical specifications (STS) was submitted by the Technical Specifications Task Force (TSTF) in TSTF-491, Revision 2, “Removal of Main Steam and Main Feedwater Valve Isolation Times from Technical Specifications.”

This proposal to modify technical specification requirements by the adoption of TSTF-491 is applicable to all licensees of Combustion Engineering, Babcock & Wilcox, and Westinghouse Pressurized Water Reactors who have adopted or will adopt in conjunction with the change, technical specification requirements for a Bases Control Program consistent with the TS Bases Control Program described in Section 5.5 of the STS. Licensees that have not adopted requirements for a Bases Control Program by converting to the improved STS or by other means, are requested to include the requirements for a Bases Control Program consistent with the STS in their application for the change. The need for a Bases Control Program stems from the need for adequate regulatory control of some key elements of the proposal that are contained in the Bases upon adoption of TSTF-491. The staff is requesting that the Bases changes be included with the proposed license amendments consistent with the Bases in TSTF-491. To ensure that the overall change, including the Bases, includes appropriate regulatory controls, the staff plans to condition the issuance of each license amendment on the licensee's incorporation of the changes into the Bases document and on requiring the licensee to control the changes in accordance with the Bases Control Program.

To efficiently process the incoming license amendment applications, the NRC staff requests that each licensee applying for the changes addressed in TSTF-491 use the CLIIP to submit an application that adheres to the following model. Any deviations from the model application should be explained in the licensee's submittal.

The CLIIP does not prevent licensees from requesting an alternate approach or proposing changes other than those proposed in TSTF-491. Variations from the approach recommended in this notice may, however, require additional review by the NRC staff and may increase the time and resources needed for the review. Significant variations from the approach, or inclusion of additional changes to the license, will result in staff rejection of the submittal. Instead, licensees desiring significant variations and/or additional changes should submit a LAR that does not claim to adopt TSTF-491.

Public Notices: In a Federal Register Notice dated October 5, 2006 (71 FR 193), the NRC staff requested comment on the use of the CLIIP to process requests to adopt the TSTF-491 changes. In addition, there have been multiple notices published for plant-specific amendment requests to adopt changes similar to those described in this notice.

The NRC staff's model SE and model application may be examined, and/or copied for a fee, at the NRC's Public Document Room, located at One White Flint North, 11555 Rockville Pike (first floor), Rockville, Maryland. Publicly available records are accessible electronically from the Agencywide Documents Access and Management System (ADAMS) Public Library component on the NRC Web site, (the Electronic Reading Room).

The NRC staff received no responses following the notice published October 5, 2006 (71 FR 193), soliciting comments on the model SE and NSHC determination related to the TSTF-491 changes. The NRC staff finds that the previously published models remain appropriate references and has chosen not to republish the model SE and model NSHC determination in this notice. As described in the model application prepared by the NRC staff, licensees may reference in their plant-specific applications to adopt the TSTF-491 changes, the model SE, NSHC determination, and environmental assessment previously published in the Federal Register (71 FR 193; October 5, 2006).

Dated at Rockville, Maryland, this 20th day of December 2006.
For the Nuclear Regulatory Commission.
Timothy J. Kobetz,
Chief, Technical Specifications Branch, Division of Inspection and Regional Support, Office of Nuclear Reactor Regulation.

FOR INCLUSION ON THE TECHNICAL SPECIFICATION WEB PAGE, THE FOLLOWING EXAMPLE OF AN APPLICATION WAS PREPARED BY THE NRC STAFF TO FACILITATE USE OF THE CONSOLIDATED LINE ITEM IMPROVEMENT PROCESS (CLIIP). THE MODEL PROVIDES THE EXPECTED LEVEL OF DETAIL AND CONTENT FOR AN APPLICATION TO ADOPT TSTF-491, REVISION 2, REMOVAL OF THE MAIN STEAM AND MAIN FEEDWATER VALVE ISOLATION TIME FROM TECHNICAL SPECIFICATIONS USING CLIIP. LICENSEES REMAIN RESPONSIBLE FOR ENSURING THAT THEIR ACTUAL APPLICATION FULFILLS THEIR ADMINISTRATIVE REQUIREMENTS AS WELL AS NUCLEAR REGULATORY COMMISSION REGULATIONS.

U. S. Nuclear Regulatory Commission Document Control Desk Washington, DC 20555

SUBJECT: PLANT NAME

DOCKET NO. 50-

APPLICATION FOR TECHNICAL SPECIFICATION CHANGE TSTF-491, REMOVAL OF THE MAIN STEAM AND MAIN FEEDWATER VALVE ISOLATION TIME FROM TECHNICAL SPECIFICATIONS USING CONSOLIDATED LINE ITEM IMPROVEMENT PROCESS

Gentlemen:

In accordance with the provisions of 10 CFR 50.90 [LICENSEE] is submitting a request for an amendment to the technical specifications (TS) for [PLANT NAME, UNIT NOS.].

The proposed amendment would modify the TS by removing the specific isolation time for the isolation valves from the associated STS Surveillance Requirements (SRs).

Enclosure 1 provides a description of the proposed change, the requested confirmation of applicability, and plant-specific verifications. Enclosure 2 provides the existing TS pages marked up to show the proposed change. Enclosure 3 provides revised (clean) TS pages. Enclosure 4 provides the existing TS Bases pages marked up to show the proposed change (for information only).

[LICENSEE] requests approval of the proposed license amendment by [DATE], with the amendment being implemented [BY DATE OR WITHIN X DAYS].

In accordance with 10 CFR 50.91, a copy of this application, with enclosures, is being provided to the designated [STATE] Official.

I declare under penalty of perjury under the laws of the United States of America that I am authorized by [LICENSEE] to make this request and that the foregoing is true and correct. (Note that request may be notarized in lieu of using this oath or affirmation statement).

If you should have any questions regarding this submittal, please contact [NAME, TELEPHONE NUMBER]

Sincerely,

[Name, Title]

Enclosures:

1. Description and Assessment

2. Proposed Technical Specification Changes

3. Revised Technical Specification Pages

4. Marked up Existing TS Bases Changes

cc: NRC Project Manager

NRC Regional Office

NRC Resident Inspector

State Contact

Enclosure 1

Description and Assessment

1.0 DESCRIPTION

The proposed amendment would modify technical specifications by removing the specific isolation time for the isolation valves from the associated STS Surveillance Requirements (SRs).¹

¹ [In conjunction with the proposed change, technical specifications (TS) requirements for a Bases Control Program, consistent with the TS Bases Control Program described in Section 5.5 of the applicable vendor's standard TS (STS), shall be incorporated into the licensee's TS, if not already in the TS.]

The changes are consistent with Nuclear Regulatory Commission (NRC) approved Industry/Technical Specification Task Force (TSTF) TSTF-491 Revision 2. The availability of this TS improvement was published in the Federal Register on [DATE] as part of the consolidated line item improvement process (CLIIP).

2.0 ASSESSMENT

2.1 Applicability of TSTF-491, and Published Safety Evaluation

[LICENSEE] has reviewed TSTF-491 (Reference 1), and the NRC model safety evaluation (SE) (Reference 2) as part of the CLIIP. [LICENSEE] has concluded that the information in TSTF-491, as well as the SE prepared by the NRC staff are applicable to [PLANT, UNIT NOS.] and justify this amendment for the incorporation of the changes to the [PLANT] TS. [NOTE: Only those changes proposed in TSTF-491 are addressed in the model SE. The model SE addresses the entire fleet of Combustion Engineering, Babcock & Wilcox, and Westinghouse Pressurized Water Reactors. The plants adopting TSTF-491 must confirm the applicability of the changes to their plant.]

2.2 Optional Changes and Variations

[LICENSEE] is not proposing any variations or deviations from the TS changes described in TSTF-491 or the NRC staff's model safety evaluation dated [DATE]. [NOTE: The CLIIP does not prevent licensees from requesting an alternate approach or proposing changes without the requested Bases or Bases control program. However, deviations from the approach recommended in this notice may require additional review by the NRC staff and may increase the time and resources needed for the review. Significant variations from the approach, or inclusion of additional changes to the license, will result in staff rejection of the submittal. Instead, licensees desiring significant variations and/or additional changes should submit a LAR that does not claim to adopt TSTF-491.]

3.0 REGULATORY ANALYSIS

3.1 No Significant Hazards Consideration Determination

[LICENSEE] has reviewed the proposed no significant hazards consideration determination (NSHCD) published in the Federal Register as part of the CLIIP. [LICENSEE] has concluded that the proposed NSHCD presented in the Federal Register notice is applicable to [PLANT] and is hereby incorporated by reference to satisfy the requirements of 10 CFR 50.91(a).

3.2 Verification and Commitments

As discussed in the notice of availability published in the Federal Register on [DATE] for this TS improvement, plant-specific verifications were performed as follows:

In addition, [LICENSEE] has proposed TS Bases consistent with TSTF-491 which provide guidance and details on how to implement the new requirements. Finally, [LICENSEE] has a Bases Control Program consistent with Section 5.5 of the Standard Technical Specifications (STS).

4.0 ENVIRONMENTAL EVALUATION

The amendment changes requirements with respect to the installation or use of a facility component located within the restricted area as defined in 10 CFR Part 20. The NRC staff has determined that the amendment adopting TSTF-491, Rev 2, involves no significant increase in the amounts and no significant change in the types of any effluents that may be released offsite, and that there is no significant increase in individual or cumulative occupational radiation exposure. The Commission has previously issued a proposed finding that TSTF-491, Rev 2, involves no significant hazards considerations, and there has been no public comment on the finding in Federal Register Notice 71 FR 193, October 5, 2006. Accordingly, the amendment meets the eligibility criteria for categorical exclusion set forth in 10 CFR 51.22(c)(9). Pursuant to 10 CFR 51.22(b), no environmental impact statement or environmental assessment need be prepared in connection with the issuance of the amendment.

5.0 REFERENCES

1. TSTF-491, Revision 2, “Removal of Main Steam and Main Feedwater Valve Isolation Times from Technical Specifications.”

2. NRC Model Safety Evaluation Report

Enclosure 2

PROPOSED TECHNICAL SPECIFICATION CHANGES (MARK-UP)

Enclosure 3

PROPOSED TECHNICAL SPECIFICATION PAGES

[Clean copies of Licensee specific Technical Specification (TS) pages, corresponding to the TS pages changed by MaTSTF-491, Rev 0, are to be included in Enclosure 3]

Enclosure 4

PROPOSED CHANGES TO TECHNICAL SPECIFICATION BASES PAGES

[FR Doc. E6-22391 Filed 12-28-06; 8:45 am]

BILLING CODE 7590-01-P